DEPARTMENT OF LABOR

Employment and Training Administration

[TA-W-37,156]

Ray-Ban Sun Optics, Luxottica, Formerly Known as Eyewear Division of Bausch & Lomb, San Antonio, TX; Amended Certification Regarding Eligibility To Apply for Worker Adjustment Assistance

In accordance with section 223 of the Trade Act of 1974 (19 USC 2273) the Department of Labor issued a Certification of Eligibility to Apply for Worker Adjustment Assistance on February 4, 2000, applicable to workers of Ray-Ban Sun Optics, San Antonio, Texas. The notice was published in the Federal Register on March 17, 2000 (65 FR 14627).

At the request of the petitioners, the Department reviewed the certification for workers of the subject firm. The workers are engaged in the production of sunglasses. Findings show that the subject firm, which was originally named the Eyewear Division of Bausch & Lomb, was sold in June 1999 to Luxottica and was renamed Ray-Ban Sun Optics. the Department is amending the certification determination to correctly identify the new title name to read “Ray-Ban Sun Optics, Luxottica, formerly known as Eyewear Division of Bausch & Lomb.;”

The amended notice applicable to TA-W-37,156 is hereby issued as follows:

All workers of Ray-Ban Sun Optics, Luxottica, formerly known as Eyewear Division of Bausch & Lomb, San Antonio, Texas who became totally or partially separated from employment on or after November 20, 1998 through February 4, 2002 are eligible to apply for adjustment assistance under Section 223 of the Trade Act of 1974.

Signed at Washington, D.C. this 24th day of July 2000.
Grant D. Beale,
Program Manager, Division of Trade Adjustment Assistance.

[FR Doc. 00-19403 Filed 7-31-00; 8:45am]

BILLING CODE 4510-30-M